DEPARTMENT OF HEALTH AND HUMAN SERVICES

Food and Drug Administration

[Docket No. FDA-2008-N-0658]

Interagency Risk Assessment of the Public Health Impact From Foodborne Listeria monocytogenes in Some Ready-to-Eat Foods Sliced, Prepared, and/or Packaged in Retail Facilities; Request for Comments and for Scientific Data and Information; Reopening of the Comment Period

AGENCY: Food and Drug Administration, HHS.

ACTION: Notice; reopening of the comment period.

SUMMARY: The Food and Drug Administration (FDA) is reopening until September 29, 2009, the comment period for the notice published in the Federal Register of January 21, 2009 (74 FR 3617). In that document, FDA requested comments and scientific data and information that would assist in the conduct of a risk assessment of the public health impact of foodborne Listeria monocytogenes in some ready-to-eat foods sliced, prepared, and/or packaged in retail facilities. The risk assessment is being conducted by FDA in collaboration with the Food Safety and Inspection Service (FSIS). The agency is reopening the comment period because FDA and FSIS held a public meeting on June 23, 2009, to present the background, approach, scope, and data needs for the recently initiated interagency risk assessment (74 FR 27276; June 9, 2009) and this additional time will allow for public comment after this meeting.

DATES: Submit comments and scientific data and information by September 29, 2009.

ADDRESSES: Submit written comments and scientific data and information to the Division of Dockets Management (HFA-305), Food and Drug Administration, 5630 Fishers Lane, rm. 1061, Rockville, MD 20852. Submit electronic comments and scientific data and information to http://www.regulations.gov.

FOR FURTHER INFORMATION CONTACT: Sherri Dennis, Center for Food Safety and Applied Nutrition (HFS-005), Food and Drug Administration, 5100 Paint Branch Pkwy., College Park, MD 20740, 301-436-2355, e-mail: sherri.dennis@fda.hhs.gov.

SUPPLEMENTARY INFORMATION:

I. Background

In the Federal Register of January 21, 2009 (74 FR 3617), FDA announced plans to conduct a risk assessment of the public health impact of foodborne Listeria monocytogenes in some ready-to-eat foods sliced, prepared, and/or packaged in retail facilities. Comments were sought on data and information in the following areas: (1) Characteristics of ready-to-eat food markets in the United States; (2) characteristics of deli departments in groceries; (3) product contamination data; (4) factors that influence the growth of L. monocytogenes in cheeses, deli meats, and deli-type salads sold by retail facilities; (5) environmental contamination data; (6) factors that influence the environmental contamination and the cross-contamination of food by L. monocytogenes in retail facilities; (7) identity and effectiveness of control measures or interventions intended to reduce levels and frequency of L. monocytogenes in the retail environment; and (8) any other data related to the occurrence, growth, and control of L. monocytogenes in retail facilities. Interested persons were given until April 21, 2009, to submit comments and scientific data and information.

On June 23, 2009, FDA and FSIS held a public meeting to present the background, approach, scope, and data needs for this interagency risk assessment (74 FR 27276; June 9, 2009). For this reason, FDA is reopening the comment period until September 29, 2009, to allow additional time for public comment and submission of scientific data and information.

II. Comments

Interested persons may submit to the Division of Dockets Management (see ADDRESSES) written or electronic comments, scientific data, and information regarding this document. Submit a single copy of electronic comments, scientific data, and information to http://www.regulations.gov or two paper copies of any mailed comments, scientific data, and information, except that individuals may submit one paper copy. Submissions are to be identified with the docket number found in brackets in the heading of this document. Received comments and scientific data and information may be seen in the Division of Dockets Management between 9 a.m. and 4 p.m., Monday through Friday.

Dated: August 21, 2009.
David Horowitz,
Assistant Commissioner for Policy.

[FR Doc. E9-20641 Filed 8-26-09; 8:45 am]

BILLING CODE 4160-01-S